DEPARTMENT OF THE INTERIOR

Fish and Wildlife Service

50 CFR Part 17

[Docket Nos. FWS-R8-ES-2013-0072 and FWS-R8-ES-2013-0042; 4500030113]

RIN 1018-AY10; RIN 1018-AZ70

Endangered and Threatened Wildlife and Plants; Threatened Status for the Bi-State Distinct Population Segment of Greater Sage-Grouse With Special Rule and Designation of Critical Habitat

AGENCY: Fish and Wildlife Service, Interior.

ACTION: Proposed rules; notice of public hearings.

SUMMARY: We, the U.S. Fish and Wildlife Service (Service), announce the locations and dates of public hearings to receive public comments on the October 28, 2013, proposed listing, critical habitat designation, and special rule for the bi-State distinct population segment (DPS) of greater sage-grouse (Centrocercus urophasianus).

DATES: We will hold two public hearings on these proposed rules. The first will be in Minden, Nevada, on May 28, 2014, from 6:00 to 9:00 p.m. (Pacific Time), and the second will be in Bishop, California, on May 29, 2014, from 6:00 to 9:00 p.m. (Pacific Time) (see ADDRESSES).

ADDRESSES:

Document availability: You may obtain copies of the proposed rules on the Internet at http://www.regulations.gov at Docket No. FWS Docket No. lations.govulations.go with special rule) and Docket No. FWSDocket No. lations.govulations.go with special rule) and Docket No.me) (see listing, critical habitatent of Greater Sage-Grouse entura Fish and Wildlife Office (see FOR FURTHER INFORMATION CONTACT).

Public hearing: The May 28, 2014, public hearing will be held at Carson Valley Inn, Valley Ballroom, 1627 U.S. Highway 395 North, Minden, Nevada 89423. The May 29, 2014, public hearing will be held at the Tri-County Fairgrounds, Home Economics Building, Sierra Street and Fair Drive, Bishop, CA 93514. People needing reasonable accommodations in order to attend and participate in either public hearing should contact Edward D. Koch, State Supervisor, Nevada Fish and Wildlife Office, as soon as possible (see FOR FURTHER INFORMATION CONTACT).

FOR FURTHER INFORMATION CONTACT: For information on the proposed listing rule, proposed special rule, and proposed critical habitat designation, contact Edward D. Koch, State Supervisor, U.S. Fish and Wildlife Service, Nevada Fish and Wildlife Office, 1340 Financial Boulevard, Suite 234, Reno, NV 89502; telephone 775-861-6300; or facsimile 775-861-6301. Persons who use a telecommunications device for the deaf (TDD) may call the Federal Information Relay Service (FIRS) at 800-877-8339.

SUPPLEMENTARY INFORMATION:

Background

On October 28, 2013, we published a proposed rule to list the bi-State DPS of greater sage-grouse in California and Nevada as a threatened species under the Endangered Species Act of 1973, as amended (Act) (78 FR 64358), with a special rule under section 4(d) of the Act. We concurrently published a proposed rule to designate critical habitat (78 FR 64328). For a description of previous Federal actions concerning the bi-State DPS, please refer to the October 28, 2013, proposed rules. Both proposed rules opened a 60-day comment period scheduled to end December 27, 2013; however, we received requests to extend the public comment periods on the proposed rules. In response to those requests, we announced on December 20, 2013, an extension of the comment periods for an additional 45 days (78 FR 77087) to February 10, 2014, to allow additional comment. On April 8, 2014 we announced the reopening of another comment period for 60 days (79 FR 19314) to June 9, 2014; that document also announced a 6-month extension for a final determination on the proposed listing rule to occur no later than April 28, 2015.

We are holding public hearings to provide interested parties an opportunity to present verbal testimony (formal, oral comments) or written comments regarding the proposals. A public hearing is a forum for accepting formal verbal testimony. Anyone wishing to testify verbally at the public hearings for the record is encouraged to also provide a written copy of their statement to us at the hearings. In the event of a large attendance, the time allotted for verbal testimony may be limited. Speakers can sign up at the hearings if they desire to make a verbal statement. Oral and written statements receive equal consideration. There are no limits on the length of written comments submitted to us.

Persons with disabilities needing reasonable accommodations to participate in either public hearing should contact the Nevada Fish and Wildlife Office (see FOR FURTHER INFORMATION CONTACT). Reasonable accommodation requests should be received at least 3 business days prior to the hearing to help ensure that we can meet the requested assistance.

Authority

The authority for this action is the Endangered Species Act of 1973, as amended (16 U.S.C. 1531 et seq.).

Dated: May 1, 2014.
Rachel Jacobson,
Principal Deputy Assistant Secretary for Fish and Wildlife and Parks.

[FR Doc. 2014-10640 Filed 5-8-14; 8:45 am]

BILLING CODE 4310-55-P